DEPARTMENT OF TRANSPORTATION

Federal Aviation Administration

14 CFR Part 71

[Docket No. FAA-2004-19581; Airspace Docket No. 04-ACE-71]

Establishment of Class E2 Airspace; and Modification of Class E5 Airspace; Ankeny, IA

AGENCY: Federal Aviation Administration (FAA), DOT.

ACTION: Final rule.

SUMMARY: This rule establishes a Class E surface area at Ankeny, IA. It also modifies the Class E airspace area extending upward from 700 feet above the surface at Ankeny, IA.

The effect of this rule is to provide appropriate controlled Class E airspace for aircraft departing from and executing instrument approach procedures to Ankeny Regional Airport and to segregate aircraft using instrument approach procedures in instrument conditions from aircraft operating in visual conditions.

DATES: Effective 0901 UTC, May 12, 2005.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

On Wednesday, January 19, 2005, the FAA proposed to amend Part 71 of the Federal Aviation Regulations (14 CFR part 71) to establish a Class E surface area and to modify other Class E airspace at Ankeny, IA (70 FR 2991) and subsequently published a correction to the proposal on Monday, February 7, 2005 (70 FR 6378). The proposal was to bring Ankeny, IA airspace areas into compliance with FAA directives. Interested parties were invited to participate in this rulemaking proceeding by submitting written comments on the proposal to the FAA. No comments objecting to the proposal were received.

The Rule

This amendment to 14 CFR part 71 establishes Class E airspace designated as a surface area for an airport at Ankeny, IA. Controlled airspace extending upward from the surface of the earth is needed to contain aircraft executing instrument approach procedures to Ankeny Regional Airport. Weather observations will be provided by an Automatic Weather Observing/Reporting System (AWOS) and communications will be direct with Des Moines Terminal Radar Approach Control Facility.

This rule also revises the Class E airspace area extending upward from 700 feet above the surface at Ankeny, IA. An examination of this airspace area revealed there is inadequate controlled airspace to protect for diverse departures. The examination also identified that the north extension is unnecessary and the northeast extension does not comply with FAA airspace directives. These discrepancies are corrected by expanding the area from a 7-mile to a 7.1-mile radius of Ankeny Regional Airport, eliminating the north extension, modifying the northeast extension and defining airspace of appropriate dimensions to protect aircraft departing and executing instrument approach procedures to Ankeny Regional Airport. The airspace area is brought into compliance with FAA Orders 7400.2E, Procedures for Handling Airspace Matters, and 8260.19C, Flight Procedures and Airspace. Both areas will be depicted on appropriate aeronautical charts.

Class E airspace areas designated as surface areas are published in Paragraph 6002 of FAA Order 7400.9M, Airspace Designations and Reporting Points, dated August 30, 2004, and effective September 16, 2004, which is incorporated by reference in 14 CFR71.1. Class E airspace areas extending upward from 700 feet or more above the surface of the earth are published in Paragraph 6005 of the same Order. The Class E airspace designations listed in this document will be published subsequently in the Order.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

This rulemaking is promulgated under the authority described in Subtitle VII, Part A, Subpart I, Section 40103. Under that section, the FAA is charged with prescribing regulations to assign the use of the airspace necessary to ensure the safety of aircraft and the efficient use of airspace. This regulation is within the scope of that authority since it contains aircraft executing instrument approach procedures to Ankeny Regional Airport.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9M, dated august 30, 2004, and effective September 16, 2004, is amended as follows:

Paragraph 6002 Class E Airspace Designated as Surface Areas.

* * * * *

ACE IA E2 Ankeny, IA

Ankeny Regional Airport, IA

(Lat. 41°41′28″ N., long. 93°33′59″ W.)

Ankeny NDB

(Lat. 41°41′55″ N., long. 93°33′50″ W.)

Within a 4.6-mile radius of Ankeny Regional Airport, and within 2.5 miles each side of the 0.46° bearing from the Ankeny NDB extending from the 4.6-mile radius of the airport to 7 miles northeast of the NDB, excluding that portion within the Des Moines Class C airspace area.

* * * * *

Paragraph 6005 Class E airspace areas extending upward from 700 feet or more above the surface of the earth.

* * * * *

ACE IA E5 Ankeny, IA

Ankeny Regional Airport, IA

(Lat. 41°41′28″ N., long. 93°33′59″ W.)

Ankeny NDB

(Lat. 41°41′55″ N., long. 93°33′50″ W.)

That airspace extending upward from 7600 feet above the surface within a 7.1-mile radius of Ankeny Regional Airport, and within 2.5 miles each side of the 046° bearing from the Ankeny NDB extending from the 7.1-mile radius of the airport to 7 miles northeast of the NDB, excluding that portion within the Des Moines Class C and E airspace areas.

* * * * *

Issued in Kansas City, MO, on March 1, 2005.
Rosalyn R. Ward,
Acting Area Director, Western Flight Services Operations.

[FR Doc. 05-4654 Filed 3-9-05; 8:45 am]

BILLING CODE 4910-13-M